SECURITIES AND EXCHANGE COMMISSION

[File No. 500-1]

In The Matter of: Sovereign Lithium, Inc.; Order of Suspension of Trading

November 15, 2013.

It appears to the Securities and Exchange Commission that the public interest and the protection of investors require a suspension of trading in the securities of Sovereign Lithium, Inc. (“Sovereign Lithium”) because of concerns regarding the accuracy and adequacy of information in the marketplace and potentially manipulative transactions in Sovereign Lithium's common stock. Sovereign Lithium is a Delaware corporation based in Denver, Colorado. It is quoted on OTC Link under the symbol SLCO.

The Commission is of the opinion that the public interest and the protection of investors require a suspension of trading in the securities of the above-listed company.

Therefore, it is ordered, pursuant to Section 12(k) of the Securities Exchange Act of 1934, that trading in the securities of the above-listed company is suspended for the period from 9:30 a.m. EST on November 15, 2013 through 11:59 p.m. EST on November 29, 2013.

By the Commission.
Elizabeth M. Murphy,
Secretary.

[FR Doc. 2013-27807 Filed 11-15-13; 4:15 pm]

BILLING CODE 8011-01-P